NUCLEAR REGULATORY COMMISSION

Sunshine Act Meeting Notice

AGENCY HOLDING THE MEETING: Nuclear Regulatory Commission.

DATES: Weeks of May 15, 22, 29, June 5, 12, and 19, 2000.

PLACE: Commissioners' Conference Room, 11555 Rockville Pike, Rockville, MD.

STATUS: Public and closed.

MATTERS TO BE CONSIDERED:

Week of May 15

Tuesday, May 16

9:25 a.m. Affirmation Session (public meeting) (if needed)

Week of May 22—Tentative

Thursday, May 25

8:30 a.m. Briefing on Operating Reactors and Fuel Facilities (public meeting) (Contact: Joe Shea, 301-415-1727)

10:15 a.m. Briefing on Status of Regional Programs, Performance and Plans (public meeting) (Contact: Joe Shea, 301-415-1727)

1:30 p.m. Briefing on Improvements to 2.206 Process (public meeting) (Contact: Andrew Kugler, 301-415-2828)

Week of May 29—Tentative

Tuesday, May 30

9:25 a.m. Affirmation Session (public meeting) (if needed)

Week of June 5

There are no meetings scheduled for the Week of June 5.

Week of June 12—Tentative

Tuesday, June 13

9:25 a.m. Affirmation Session (public meeting) (if needed)

9:30 a.m. Meeting with Organization of Agreement States (OAS) and Conference of Radiation Control Program Directors (CRCPD) (public meeting) (Contact: Paul Lohaus, 301-415-3340)

1 p.m. Meeting with Korean Peninsula Energy Development Organization (KEDO) and State Department (public meeting) (Contact: Donna Chaney, 301-415-2644)

Week of June 19—Tentative

Tuesday, June 20, 2000

9:25 a.m. Affirmation Session (public meeting) (if needed)

9:30 a.m. Briefing on Final Rule—Part 70, Regulating Fuel Cycle Facilities (public meeting)

1:30 p.m. Briefing on Risk-Informed Part 50, Option 3 (public meeting)

The schedule for Commission meetings is subject to change on short notice. To verify the status of meetings call (recording) (301) 415-1292.

CONTACT PERSON FOR MORE INFORMATION: Bill Hill, (301) 415-1661.

The NRC Commission Meeting Schedule can be found on the Internet at: http://www.nrc.gov/SECY/smj/schedule.htm

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@nrc.gov or dkw@nrc.gov.

Dated: May 12, 2000.
William M. Hill, Jr.,
SECY Tracking Officer, Office of the Secretary.

[FR Doc. 00-12505 Filed 5-15-00; 8:45 am]

BILLING CODE 7590-01-M